DEPARTMENT OF COMMERCE

International Trade Administration

[A-570-880]

Notice of Preliminary Determination of Sales at Less Than Fair Value and Postponement of Final Determination: Barium Carbonate From the People's Republic of China

AGENCY: Import Administration, International Trade Administration, Department of Commerce.

ACTION: Preliminary determination of sales at less than fair value and postponement of final determination.

EFFECTIVE DATE: March 17, 2003.

SUMMARY: We preliminarily determine that barium carbonate from the People's Republic of China (the PRC) is being sold, or is likely to be sold, in the United States at less than fair value (LTFV), as provided in section 733 of the Tariff Act of 1930, as amended (the Act). The estimated margins of sales at LTFV are shown below in the “Suspension of Liquidation” section of this notice.

FOR FURTHER INFORMATION CONTACT: David Layton or Tisha Loeper-Viti at (202) 482-0371 or (202) 482-7425, respectively; AD/CVD Enforcement, Office 5, Group II, Import Administration, Room 1870, International Trade Administration, U.S. Department of Commerce, 14th Street and Constitution Avenue, NW., Washington, DC 20230.

Case History

The petitioner in this investigation is Chemical Products Corporation. This investigation was initiated on October 21, 2002. See Initiation of Antidumping Duty Investigation: Barium Carbonate from the People's Republic of China, 67 FR 65534 (October 25, 2002) (Initiation Notice). Since the initiation of this investigation, the following events have occurred.

On November 14, 2002, the U.S. International Trade Commission (ITC) preliminarily determined that there is a reasonable indication that an industry in the United States is materially injured by reason of barium carbonate imports from the PRC. See Barium Carbonate from China, 67 FR 70092 (November 20, 2002).

On November 18, 2002, the Department issued its antidumping questionnaire ¹ to the PRC Bureau of Fair Trade for Imports and Exports (BOFT). The Department requested that BOFT send the questionnaire to all companies that manufacture and export barium carbonate to the United States, as well as manufacturers that produce barium carbonate for companies that were engaged in exporting subject merchandise to the United States during the period of investigation (POI). In addition, we sent the questionnaire to all of the manufacturers and exporters listed in the petition. See complete list of 10 manufacturers and 12 exporters in the petition (September 30, 2002) at Exhibit 4. Only Qingdao Red Star Chemical Import & Export Co., Ltd. (Qingdao Red Star) and its suppliers responded to the Department's questionnaire. The Department issued supplemental questionnaires on January 10 and February 3, 2003. We received deficiency comments from the petitioner on January 15 and 30, and March 4, 2003. Due to the statutory deadline, we were unable to take into consideration for purposes of the preliminary determination the petitioner's most recently filed comments. The Department does intend to carefully review the issues raised in that submission, including that of affiliation, and will verify the information provided by the respondent, as appropriate, prior to the final determination.

¹ Section of A of the questionnaire requests general information concerning a company's corporate structure and business practices, the merchandise under this investigation that it sells, and the manner in which it sells that merchandise in all of its markets. Section C requests a complete listing of U.S. sales. Section D requests information on the factors of production of the merchandise under investigation. Section E requests information on further manufacturing.

On January 31, 2003, we invited interested parties to provide comments on the surrogate country selection and publicly available information for valuing the factors of production. We received comments from Qingdao Red Star on February 10 and 13, 2003. We received comments from the petitioner on February 10, 13 and 19, 2003.

Postponement of Final Determination

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioner. The Department's regulations, at 19 CFR 351.210(e)(2) (2002), require that requests by respondents for postponement of a final determination be accompanied by a request for an extension of the provisional measures from a four-month period to not more than six months.

On February 13, 2003, Qingdao Red Star requested that, in the event of an affirmative preliminary determination in this investigation, the Department postpone its final determination until not more than 135 days after the publication of the preliminary determination. The respondent included a request to extend the provisional measures to not more than six months after the publication of the preliminary determination. In accordance with section 351.210(e) of the Department's regulations, because we have made an affirmative preliminary determination, the requesting party accounts for a significant proportion of exports of the subject merchandise, and no compelling reasons exist to deny the request, we have postponed the final determination until not later than 135 days after the date of the publication of the preliminary determination, and are extending the provisional measures accordingly.

Period of Investigation

The POI is January 1, 2002, through June 30, 2002. This period corresponds to the two most recent fiscal quarters prior to the month of the filing of the petition (i.e., September 2002). See 19 CFR 351.204(b)(1).

Scope of Investigation

The merchandise covered by this investigation is barium carbonate, regardless of form or grade. The product under investigation is currently classifiable under subheading 2836.60.0000 of the Harmonized Tariff Schedule of the United States (HTSUS). Although the HTSUS subheading is provided for convenience and customs purposes, the written description of the scope of this proceeding is dispositive.

Non-Market Economy Country Status

The Department has treated the PRC as a non-market economy (NME) country in all its past antidumping investigations. See, e.g., Notice of Final Determination of Sales at Less Than Fair Value: Non-Malleable Cast Iron Pipe Fittings from the People's Republic of China, 68 FR 7765 (February 18, 2003); and Notice of Final Determination of Sales at Less Than Fair Value Ferrovanadium from the People's Republic of China, 67 FR 71137 (November 29, 2002). In accordance with section 771(18)(C) of the Act, any determination that a foreign country is an NME country shall remain in effect until revoked. No party in this investigation has sought revocation of the NME status of the PRC. Therefore, pursuant to section 771(18)(C) of the Act, the Department will continue to treat the PRC as an NME country.

When the Department is investigating imports from an NME country, section 773(c)(1) of the Act directs the Department to base normal value (NV) on the NME producer's factors of production, valued in a market economy at a comparable level of development that is a significant producer of comparable merchandise. The sources of individual factor prices are discussed under the “Normal Value” section, below.

Separate Rates

In an NME proceeding, the Department presumes that all companies within the country are subject to governmental control and should be assigned a single antidumping duty rate unless the respondent demonstrates the absence of both de jure and de facto governmental control over its export activities. See Notice of Final Determination of Sales at Less Than Fair Value: Bicycles From the People's Republic of China, 61 FR 19026, 19027 (April 30, 1996). Qingdao Red Star has provided the requested company-specific separate rate information and has indicated that there is no element of government ownership or control over its operations. We have considered whether Qingdao Red Star is eligible for a separate rate as discussed below.

The Department's separate-rates test is not concerned, in general, with macroeconomic/border-type controls (e.g., export licenses, quotas, and minimum export prices), particularly if these controls are imposed to prevent dumping. Rather, the test focuses on controls over the export-related investment, pricing, and output decision-making process at the individual firm level. See Notice of Final Determination of Sales at Less Than Fair Value: Certain Cut-to-Length Carbon Steel Plate From Ukraine, 62 FR 61754, 61757 (November 19, 1997); and Tapered Roller Bearings and Parts Thereof, Finished and Unfinished, from the People's Republic of China: Final Results of Antidumping Duty Administrative Review, 62 FR 61276, 61279 (November 17, 1997).

To establish whether a firm is sufficiently independent from government control to be entitled to a separate rate, the Department analyzes each exporting entity under a test arising out of the Final Determination of Sales at Less Than Fair Value: Sparklers from the People's Republic of China, 56 FR 20588 (May 6, 1991), as modified in the Final Determination of Sales at Less Than Fair Value: Silicon Carbide from the People's Republic of China, 59 FR 22585, 22587 (May 2, 1994) (Silicon Carbide). Under this test, the Department assigns separate rates in NME cases only if an exporter can demonstrate the absence of both de jure and de facto governmental control over its export activities. See Silicon Carbide and the Notice of Final Determination of Sales at Less Than Fair Value: Furfuryl Alcohol From the People's Republic of China, 60 FR 22544, 22545 (May 8, 1995).

A. Absence of De Jure Control

The Department considers the following de jure criteria in determining whether an individual company may be granted a separate rate: (1) An absence of restrictive stipulations associated with an individual exporter's business and export licenses; (2) any legislative enactments decentralizing control of companies; and (3) any other formal measures by the government decentralizing control of companies.

Qingdao Red Star has placed on the record a number of documents to demonstrate the absence of de jure control, including its business license, and the “Company Law of the People's Republic of China” of December 29, 1993. Other than limiting Qingdao Red Star's operations to the activities referenced in the license, we noted no restrictive stipulations associated with the license. In addition, in previous cases, the Department has analyzed the “Company Law of the People's Republic of China” and found that it establishes an absence of de jure control. See, e.g., Notice of Final Determination of Sales at Less Than Fair Value: Certain Partial-Extension Steel Drawer Slides with Rollers from the People's Republic of China, 60 FR 54472, 54474 (October 24, 1995). We have no information in this proceeding which would cause us to reconsider this determination. Therefore, based on the foregoing, we have preliminarily found an absence of de jure control.

B. Absence of De Facto Control

The Department typically considers four factors in evaluating whether each respondent is subject to de facto governmental control of its export functions: (1) Whether the export prices are set by, or subject to, the approval of a governmental authority; (2) whether the respondent has authority to negotiate and sign contracts and other agreements; (3) whether the respondent has autonomy from the government in making decisions regarding the selection of its management; and (4) whether the respondent retains the proceeds of its export sales and makes independent decisions regarding disposition of profits or financing of losses.

With regard to the issue of de facto control, Qingdao Red Star has reported the following: (1) There is no government participation in setting export prices; (2) its managers have the authority to bind sales contracts; (3) the government does not participate in the selection of Qingdao Red Star's management, and (4) there are no restrictions on the use of its export revenues or the disposition of its profits, and it is responsible for financing its own losses. Additionally, Qingdao Red Star's questionnaire responses do not suggest that pricing is coordinated among exporters. Furthermore, our analysis of Qingdao Red Star's questionnaire responses reveals no other information indicating governmental control of export activities. Therefore, based on the information provided, we preliminarily determine that there is an absence of de facto government control over Qingdao Red Star's export functions, and that Qingdao Red Star has met the criteria for the application of separate rates.

The PRC-Wide Rate

Although the Department provided BOFT and all PRC exporters of the subject merchandise, including Qingdao Red Star, with the opportunity to respond to its questionnaire, only Qingdao Red Star submitted responses thereto. Our review of U.S. import statistics reveals that there are other PRC companies, in addition to Qingdao Red Star, that exported barium carbonate to the United States during the POI. Because these exporters did not submit a response to the Department's questionnaire, and thus did not demonstrate their entitlement to a separate rate, we have implemented the Department's rebuttable presumption that these exporters constitute a single enterprise under common control by the PRC government, and we are applying adverse facts available to determine the single antidumping duty rate, the PRC-wide rate, applicable to all other PRC exporters comprising this single enterprise. See, e.g., Final Determination of Sales at Less Than Fair Value: Synthetic Indigo from the People's Republic of China, 65 FR 25706, 25707 (May 3, 2000).

Use of Facts Otherwise Available

Section 776(a)(2) of the Act provides that, if an interested party withholds information that has been requested by the Department, fails to provide such information in a timely manner or in the form or manner requested, significantly impedes a proceeding under the antidumping statute, or provides information which cannot be verified, the Department shall use, subject to sections 782(d) and (e) of the Act, facts otherwise available in reaching the applicable determination. As explained above, with the exception of the exporter, Qingdao Red Star, and its manufacturer, Guizhou Red Star Development Co., Ltd. (Guizhou Red Star), no other Chinese manufacturer or exporter of the subject merchandise responded to the Department's request for information. Therefore, the curative provisions of section 782 of the Act are not applicable because there is no information on the record of this investigation on which the Department can determine separate rates for these manufacturers and exporters. Accordingly, the Department is applying the PRC-wide rate to all PRC exporters of the subject merchandise except for Qingdao Red Star. The Department cannot determine a separate rate for these companies because this information is within the sole possession of the parties at issue and cannot be obtained otherwise. No other Chinese manufacturer or exporter of the subject merchandise responded to the Department's request for information. For this reason, we are unable to calculate a PRC-wide rate. Therefore, the Department must resort to the use of the facts available to ensure that these exporters do not obtain a more favorable result than they would by responding to the Department's request for information. The failure of the parties at issue to respond significantly impedes this proceeding because the Department cannot accurately determine a margin for these parties. Thus, pursuant to section 776(a)(2)(A) and (C) of the Act, in reaching our preliminary determination, we have based the PRC-wide rate on the facts available.

In applying facts otherwise available, section 776(b) of the Act provides that, if the Department finds that an interested party “has failed to cooperate by not acting to the best of its ability to comply with a request for information,” the Department may use information that is adverse to the interests of that party as facts otherwise available. Adverse inferences are appropriate “to ensure that the party does not obtain a more favorable result by failing to cooperate than if it had cooperated fully.” See Statement of Administrative Action (SAA) accompanying the URAA, H.R. Doc. No. 103-316, at 870 (1994). Furthermore, “affirmative evidence of bad faith on the part of the respondent is not required before the Department may make an adverse inference.” See Antidumping Countervailing Duties; Final Rule, 62 FR 27296, 27340 (May 19, 1997). In this case, the complete failure of these parties to respond to the Department's requests for information constitutes a failure to cooperate to the best of their ability. Since the information is within the sole possession of the parties at issue, the Department is precluded from determining an accurate margin for the other producers and exporters and must therefore resort to the use of adverse facts available.

An adverse inference may include reliance on information derived from the petition, the final determination in the investigation, any previous review, or any other information placed on the record. See section 776(b) of the Act. However, section 776(c) of the Act provides that, when the Department relies on secondary information rather than on information obtained in the course of an investigation or review, the Department shall, to the extent practicable, corroborate that information from independent sources that are reasonably at its disposal. Independent sources may include published price lists, official import statistics and Customs data, and information obtained from interested parties during the particular investigation or review. See SAA at 870 and 19 CFR 351.308(d). “Corroborate” means that the Department will satisfy itself that the secondary information to be used has probative value. Id. To corroborate secondary information, the Department will, to the extent practicable, examine the reliability and relevance of the information used. See Tapered Roller Bearings and Parts Thereof, Finished and Unfinished, from Japan, and Tapered Roller Bearings, Four Inches or Less in Outside Diameter, and Components Thereof, from Japan; Preliminary Results of Antidumping Duty Administrative Reviews and Partial Termination of Administrative Reviews, 61 FR 57391, 57392 (November 6, 1996).

For our preliminary determination, as adverse facts available, we have used as the PRC-wide rate, the highest recalculated dumping margin from the petition with certain adjustments made to the values (see below). In the petition, the petitioner based export price (EP) on actual price quotes for barium carbonate produced in the PRC and offered for sale by several different Chinese trading companies.² For the NV calculation, the petitioner based the factors of production, as defined by section 773(c)(3) of the Act (raw materials, labor, energy, and representative capital costs) on the quantities of inputs used by the petitioner.

² In calculating export price, the petitioner adjusted for foreign inland freight using a surrogate value for rail freight in accordance with our NME calculation methodology.

With regard to the EP calculation in the petition, the petitioner also provided AUVs by port of entry which the petitioner obtained from the ITC's Interactive Tariff and Trade DataWeb (DataWeb). See October 16, 2002 Response to Supplemental Request at Exhibit 1 and Web site: http://dataweb.usitc.gov/scripts/user_set.asp. As discussed in the memorandum to Gary Taverman, Director, Office 5, from David Layton, Tisha Loeper-Viti and Kristina Boughton, Case Analysts regarding Corroboration of Secondary Information (Corroboration Memo), dated March 10, 2003, we were unable to corroborate the petitioner's price quotations with data submitted by Qingdao Red Star in its questionnaire responses because the petitioner's price quotations did not correspond to any of the export prices reported by the respondent in this proceeding. The Department was also unable to corroborate these prices with average unit values (AUVs) for the POI that were based on quarterly quantities and values of total barium carbonate imports from the PRC reported on DataWeb. In addition, the terms of sale related to the petitioner's price quotes appear to differ from the terms underlying the respondent's prices as explained in the Corroboration Memorandum.³ Since the Department was unable to corroborate the petitioner's price quotations for purposes of using them in the Department's calculation of the PRC-wide rate, we have substituted an EP based on the weighted average of all of the port-specific AUVs provided by the petitioner except for one port-specific AUV that appeared to be aberrationally high. See Corroboration Memo at Attachment 1. These AUVs are based on actual POI customs values for imports from the PRC falling under the only tariff classification subheading covering subject merchandise. The publicly available AUVs reflect barium carbonate prices net of international freight for all Chinese exporters including those who did not respond. Therefore, we consider the AUVs to have probative value for purposes of calculating the PRC-wide rate.

³ The explanation of the difference in terms of sale involves some proprietary information.

We compared the petitioner's factor consumption rates to the respondent's factor consumption rates, which is the only other factor consumption data on the record of this investigation. As discussed in the Corroboration Memo, we were unable to corroborate the petitioner's factor consumption data with the data provided by the respondent. Nevertheless, we consider the petitioner's factor consumption rates for materials, labor and energy to have probative value on the basis that these consumption factors are derived from the petitioner's own experience in producing the subject merchandise. See Corroboration Memo at 7.

The surrogate values for the factors of production in the petition were based on publicly available information for comparable inputs in India, and in the case of barite ore, on a price quote from an Australian producer. With the exception of the values for packing material, which differed only slightly, and water, which was the same, we updated Indian surrogate values used in the petition with values based on more current values from publicly available sources and revised the NV calculation accordingly. See FOP Memo. We replaced the price quote value for barite ore with a value based on Indonesian imports from a publicly available source. See discussion in the Factors of Production section below and in the FOP Memo. We consider the Indian values, and the Indonesian value, both from publicly available sources, to have probative value. Therefore, we find that the surrogate values used to calculate the PRC-wide rate are sufficiently corroborated.

Because all elements of NV have been corroborated, we consider this revised NV to be reasonable and of probative value. As a result of this recalculation, the PRC-wide rate is, for the preliminary determination, 75.10 percent. See Corroboration Memo; see also the October 16, 2002 supplement to the petition. For the purpose of determining the most appropriate final PRC-wide margin, the Department will consider all information on the record at the time of the final determination.

Fair Value Comparisons

To determine whether Qingdao Red Star's sales of barium carbonate to customers in the United States were made at LTFV, we compared EP to NV, calculated using our NME methodology, as described below in the “Export Price” and “Normal Value” sections of this notice. In accordance with section 777A(d)(1)(A)(i) of the Act, we calculated weighted-average EPs.

Export Price

In accordance with section 772(a) of the Act, export price is the price at which the subject merchandise is first sold (or agreed to be sold) before the date of importation by the producer or exporter of the subject merchandise outside of the United States to an unaffiliated purchaser in the United States or to an unaffiliated purchaser for exportation to the United States, as adjusted under subsection (c). In accordance with section 772(a) of the Act, we used EP for Qingdao Red Star because the subject merchandise was sold directly to unaffiliated customers in the United States prior to importation and because constructed export price was not otherwise indicated.

We calculated EP for Qingdao Red Star based on packed F.O.B. and C.I.F. prices to unaffiliated purchasers in the United States. We made deductions for movement expenses in accordance with section 772(c)(2)(A) of the Act. These included domestic inland freight, international freight, and marine insurance, where applicable. Because transportation for all sales was provided by an NME company, we based movement expenses associated with these sales on surrogate values. See the memorandum to Gary Taverman, Director, Office 5, from David Layton, Tisha Loeper-Viti and Kristina Boughton, Case Analysts regarding, Factors of Production Valuation for Preliminary Determination, dated March 10, 2003 (FOP Memo), on file in the Central Records Unit (CRU) located in B-099 of the main Department of Commerce building.

Normal Value

1. Surrogate Country

Section 773(c)(4) of the Act requires that the Department value the NME producer's factors of production, to the extent possible, on the prices or costs of factors of production in one or more market economy countries that are: (1) At a level of economic development comparable to that of the NME country; and (2) significant producers of comparable merchandise. The Department's Office of Policy initially identified five countries that are at a level of economic development comparable to the PRC in terms of per capita GNP and the national distribution of labor. Those countries are India, Pakistan, Indonesia, Sri Lanka and the Philippines (see the memorandum from Jeffrey May, Director, Office of Policy to Gary Taverman, Director, Office 5, regarding Request for a List of Surrogate Countries, dated December 11, 2002, on file in the CRU). Based on available information of export data provided in United Nations Trade Statistics under HTSUS subheading 2836.60, we have found that India is a producer of barium carbonate. The petitioner also provided evidence that India is a significant producer of subject merchandise, including Indian producers' advertisements and an article from the Asia Pulse citing aggregate Indian production figures for barium carbonate from 1995-1999. In addition, for most factors of production, India has quantifiable, contemporaneous, and publicly available data. India had the best available financial data of the five countries on specific barium carbonate producers. Therefore, for purposes of the preliminary determination, we have selected India as the primary surrogate country. However, for one material input, barite ore, we were unable to obtain a reliable Indian value. For this reason, we used data from a secondary surrogate country, Indonesia, to value this input. We have evidence to suggest that Indonesia is also a significant producer of comparable merchandise and we were able to obtain publicly available data for barite ore. For further discussion, see the FOP Memo.

Factors of Production

In its questionnaire response, Qingdao Red Star reported factors of production for the manufacture of the subject merchandise during the POI. The factors of production include: (1) Hours of labor required; (2) quantities of raw materials employed; (3) amounts of energy and other utilities consumed; and (4) representative capital costs. See section 773(c)(3) of the Act. To calculate NV, we multiplied the reported quantities by publicly available surrogate per-unit values from India and, when appropriate, from Indonesia.

In selecting the surrogate values, we considered the quality, specificity, and contemporaneity of the data. For those values not contemporaneous with the POI, we adjusted the values to account for inflation using the applicable price indices published in the International Monetary Fund's International Financial Statistics (January 2003, July 2002 and September 2000). We inflated the values denominated in Indian rupees using Indian wholesale price indices and inflated values denominated in U.S. dollars using U.S. producer price indices. As appropriate, we included freight costs in input prices to make them delivered prices. Specifically, we added to the surrogate values a surrogate freight cost calculated using the shorter of the reported distance from the domestic input supplier to the factory processing subject merchandise or the distance from the nearest seaport to the relevant factory. This adjustment is in accordance with the Court of Appeals for the Federal Circuit's decision in Sigma Corp. v. United States, 117 F. 3d 1401, 1407-1408 (Fed. Cir. 1997).

We valued certain material inputs, packing materials, and byproducts (including coal, limestone, plastic bags, and sulfur) using publicly available 2002 Indian import statistics from the appropriate Indian Trade Classification categories, based on the Harmonized Commodity Description and Coding System (HS), published by the Monthly Statistics of the Foreign Trade of India. Volume II: Imports (March 2002) (Indian Import Statistics). Because Indian imports of barite ore for this period were insignificant, we valued barite ore using 2001 Indonesian import data from the World Trade Atlas. We valued water based on an average of several rates for metropolitan areas in India, published by the Asian Development Bank in the Second Water Utilities Data Book: Asian and Pacific Region in 1997.

For energy, we valued coal using Indian Import Statistics for 2002. We valued electricity using Indian retail prices found in the International Energy Agency's Key World Energy Statistics 2002 covering the fourth quarter of 2001. We valued kerosene using rates quoted in a press release from the Government of India dated February 28, 2002.

We valued labor using the latest regression-based wage rate for China found on Import Administration's Web page (http://ia.ita.doc.gov/wages/) as described in 19 CFR 351.408(c)(3).

To value foreign inland truck freight costs, we relied upon per-kilometer price quotes used by the Department in the Notice of Final Determination of Sales at Less Than Fair Value: Creatine Monohydrate From the People's Republic of China, 67 FR 10892 (March 11, 2002). To value foreign inland rail freight costs, we used an average per-metric-ton rate published in the Reserve Bank of India Bulletin, July 2001. This rate was used by the Department in the Notice of Preliminary Results in the Antidumping Duty Administrative Review of Potassium Permanganate from the People's Republic of China, 68 FR 7768 (February 18, 2003). We valued ocean freight based on publicly available rates from a large liner shipping company, Maersk Sealand. We valued marine insurance based on an Indian rate which was reported in the public version of the questionnaire response placed on the record in Certain Stainless Steel Wire Rod From India: Final Results of Administrative and New Shipper Review, 64 FR 856 (January 6, 1999).

To value factory overhead, selling, general and administrative expenses (SG&A) and profit, we used the audited financial statements for the year ended March 31, 2000, from an Indian producer of barium carbonate, Victory Chemicals Pvt., Ltd. (Victory).

For a complete analysis of surrogate values used in the preliminary determination, see the FOP Memo.

Verification

In accordance with section 782(i) of the Act, we intend to verify all information relied upon in making our final determination.

Suspension of Liquidation

We are directing the U.S. Customs Service (Customs) to suspend liquidation of all entries of barium carbonate from the PRC that are entered, or withdrawn from warehouse, for consumption on or after the date on which this notice is published in the Federal Register. In addition, we are instructing Customs to require a cash deposit or the posting of a bond equal to the weighted-average amount by which the NV exceeds the EP, as indicated in the chart below. These instructions suspending liquidation will remain in effect until further notice.

We determine that the following percentage weighted-average margins exist for the POI:

Manufacturer/exporter | Weighted- average margin (percent)
Qingdao Red Star Chemical Import & Export Co., Ltd | 7.66
PRC-Wide Rate | 75.10

The PRC-wide rate applies to all entries of the subject merchandise except for entries from Qingdao Red Star.

Disclosure

In accordance with 19 CFR 351.224(b), the Department will disclose to interested parties within five days of the date of publication of this notice the calculations performed in the preliminary determination.

ITC Notification

In accordance with section 733(f) of the Act, we have notified the ITC of the Department's preliminary affirmative determination. If the final determination in this proceeding is affirmative, the ITC will determine before the later of 120 days after the date of this preliminary determination or 45 days after the final determination whether imports of barium carbonate from the PRC are materially injuring, or threaten material injury to, the U.S. industry.

Public Comment

In accordance with 19 CFR 351.301(c)(3)(i), interested parties may submit publicly available information to value the factors of production for purposes of the final determination within 40 days after the date of publication of this preliminary determination. Case briefs or other written comments must be submitted to the Assistant Secretary for Import Administration no later than one week after issuance of the verification reports. Rebuttal briefs, the content of which is limited to the issues raised in the case briefs, must be filed within five days after the deadline for the submission of case briefs. A list of authorities used, a table of contents, and an executive summary of issues should accompany any briefs submitted to the Department. Executive summaries should be limited to five pages total, including footnotes. Further, we request that parties submitting briefs and rebuttal briefs provide the Department with a copy of the public version of such briefs on diskette.

In accordance with section 774 of the Act, we will hold a public hearing, if requested, to afford interested parties an opportunity to comment on arguments raised in case or rebuttal briefs. If a request for a hearing is made, we will tentatively hold the hearing two days after the deadline for submission of rebuttal briefs at the U.S. Department of Commerce, 14th Street and Constitution Avenue, NW., Washington, DC 20230, at a time and in a room to be determined. Parties should confirm by telephone the date, time, and location of the hearing 48 hours before the scheduled date.

Interested parties who wish to request a hearing, or to participate in a hearing if one is requested, must submit a written request to the Assistant Secretary for Import Administration, U.S. Department of Commerce, Room 1870, within 30 days of the date of publication of this notice. Requests should contain: (1) The party's name, address, and telephone number; (2) the number of participants; and (3) a list of the issues to be discussed. At the hearing, oral presentations will be limited to issues raised in the briefs. See 19 CFR 351.310(c). The Department will make its final determination no later than 135 days after the date of publication of this preliminary determination.

This determination is issued and published in accordance with sections 733(f) and 777(i)(1) of the Act.

Dated: March 10, 2003.
Joseph Spetrini,
Acting Assistant Secretary for Import Administration.

[FR Doc. 03-6339 Filed 3-14-03; 8:45 am]

BILLING CODE 3510-DS-P